DEPARTMENT OF HEALTH AND HUMAN SERVICES

National Institutes of Health

National Institute of Environmental Health Sciences; Notices of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Institute of Environmental Health Sciences Special Emphasis Panel, NIH ES 00-23.

Date: April 4, 2000.

Time: 8:30 a.m. to 5 p.m.

Agenda: To review and evaluate contract proposals.

Place: NIEHS—East Campus, Building 4401, Conference Room 122, 79 Alexander Drive, Research Triangle Park, NC 27709.

Contact Person: Linda K. Bass, Scientific Review Administrator, NIEHS, PO Box 12233 EC-30, Research Triangle Park, NC 27709; (919) 541-1307.

This notice is being published less than 15 days prior to the meeting due to the timing limitations imposed by the review and fund cycle.

Name of Committee: National Institute of Environmental Health Sciences Special Emphasis Panel.

Date: April 12-14, 2000.

Time: 7 a.m. to 11 a.m.

Agenda: To review and evaluate contract grant applications.

Place: Wilmington Courtyard, 151 Van Camden Blvd, Wilmington, NC 28403.

Contact Person: Linda K. Bass, Scientific Review Administrator, NIEHS, PO Box 12233 EC-30, Research Triangle Park, NC 27709; (919) 541-1307.

This notice is being published less than 15 days prior to the meeting due to the timing limitations imposed by the review and fund cycle.

(Catalogue of Federal Domestic Assistance Program Nos. 93.113, Biological Response to Environmental Health Hazards; 93.114, Applied Toxicological Research and Testing; 93.115, Biometry and Risk Estimation—Health Risks from Environmental exposures; 93.142 NIEHS Hazardous Waste Worker Health and Safety Training; 93.143, NIEHs Superfund Hazardous Substances—Basic Research and Education; 93.894 Resources and Manpower Development in the Environmental Health Sciences, National Institutes of Health, HHS)

Dated: March 8, 2000.
Anna Snouffer,
Acting Director, Office of Federal Advisory Committee Policy.

[FR Doc. 00-6478 Filed 3-15-00; 8:45 am]

BILLING CODE 4140-01-M